COMMISSION ON CIVIL RIGHTS

Notice of Public Meeting of the Wisconsin Advisory Committee for Fact Finding on Hate Crimes in Wisconsin

AGENCY: U.S. Commission on Civil Rights.

ACTION: Notice of meeting.

SUMMARY: Notice is hereby given, pursuant to the provisions of the rules and regulations of the U.S. Commission on Civil Rights (Commission) and the Federal Advisory Committee Act that the Wisconsin Advisory Committee (Committee) will hold a fact finding meeting on Thursday, September 12, 2013, for the purpose of gathering information and hearing recommendations regarding hate crimes in Wisconsin. The Committee will receive testimony from advocates, federal and state officials, law enforcement officials, professors, and community leaders. The Committee met with the Sikh Temple of Milwaukee in September 2012 and determined thereafter to research hate crime and hate groups throughout the state, to analyze current hate crime statutes and their effectiveness as hate crime deterrents, and to investigate other models of preventing hate incidents in the state. The testimony presented at the meeting will address these research goals.

Members of the public are invited and welcomed to make statements into the record at the meeting starting at 6:15 p.m. Member of the public are also entitled to submit written comments; the comments must be received in the regional office by October 12, 2013. Written comments may be mailed to the Midwestern Regional Office, U.S. Commission on Civil Rights, 55 W Monroe St., Suite 410, Chicago, IL 60615. They may also be faxed to the Commission at (312) 353-8311, or emailed to the Commission at callen@usccr.gov. Persons who desire additional information may contact the Midwestern Regional Office at (312) 353-8311.

Hearing-impaired persons who will attend the meeting and require the services of a sign language interpreter should contact the Midwestern Regional Office at least ten (10) working days before the scheduled date of the meeting.

Records generated from this meeting may be inspected and reproduced at the Midwestern Regional Office, as they become available, both before and after the meeting. Records of the meeting will be available via www.facadatabase.gov under the Commission on Civil Rights, Wisconsin Advisory Committee link. Persons interested in the work of this Committee are directed to the Commission's Web site, http://www.usccr.gov, or may contact the Midwestern Regional Office at the above email or street address.

Agenda

Welcome and Introductions

1:30 p.m. to 1:45 p.m.

Adel Mekraz, Chairman, Wisconsin Advisory Committee

Panel 1

1:45 p.m. to 3:40 p.m.

Jeannine Bell, Professor of Law and Louis F. Niezer Faculty Fellow, Maurer School of Law (via phone)

Rick Esenberg, Founder, President, and General Counsel, Wisconsin Institute for Law & Liberty

Mark Potok, Senior Fellow, Southern Poverty Law Center (via phone)

Miriam Zeidman, Midwest Civil Rights Counsel, Anti-Defamation League

Panel 2

3:50 p.m. to 4:50 p.m.

Bonit Gill, Sikh Student Association—UW Madison

Elana Kohn-Oren, Director, Jewish Community Relations Council

Ibrahim Saeed, Ph.D., Islamic Center of Madison

Steve Starkey, Executive Director, OutReach

Panel 3

4:55 p.m. to 6:05 p.m.

James L. Santelle, U.S. Attorney for the Eastern District of Wisconsin

Chadwick Elgersma, Supervisory Special Agent, Federal Bureau of Investigation

Ismael Ozanne, Dane County District Attorney

Neil Saxton, Milwaukee Police Department

Representative, Madison Police Department

Open Session

6:15 to 7:00 p.m.

Adjournment

7:00 p.m.

DATES: The meeting will be held on Thursday, September 12, 2013, at 1:00 p.m. for a business meeting with panels beginning at 1:45 p.m.

ADDRESSES: The meeting will be held at the First Congregational UCC, 1609 University Avenue, Madison, WI 53726.

Dated August 26, 2013.
David Mussatt,
Acting Chief, Regional Programs Coordination Unit.

[FR Doc. 2013-21162 Filed 8-29-13; 8:45 am]

BILLING CODE 6335-01-P